Title 3—

The President

Memorandum of July 23, 2021

Delegation of Authority Under Section 506(a)(2) of the Foreign Assistance Act of 1961

Memorandum for the Secretary of State

By the authority vested in me as President by the Constitution and the laws of the United States of America, including section 301 of title 3, United States Code, subject to fulfilling the requirements of section 652 of the Foreign Assistance Act of 1961 (FAA), and in order to provide assistance for refugees, victims of conflict, and other persons at risk as a result of the situation in Afghanistan, including applicants for Special Immigrant Visas, I hereby delegate to the Secretary of State:

(1) the authority under section 506(a)(2) of the FAA to direct the drawdown of up to $200,000,000 in articles and services from the inventory and resources of any agency of the United States Government and military education and training from the Department of Defense for the purposes and under the authorities of the Migration and Refugee Assistance Act of 1962;

(2) the authority to make the determination under section 506(a)(2) of the FAA to direct such drawdown; and

(3) the authority under section 652 of the FAA to make, before any such drawdown, the required notifications to the Congress.

You are authorized and directed to publish this memorandum in the Federal Register.

THE WHITE HOUSE,

Washington, July 23, 2021

[FR Doc. 2021-16379

Filed 7-28-21; 11:15 am]

Billing code 4710-10-P